ENVIRONMENTAL PROTECTION AGENCY

40 CFR Part 282

[EPA-R04-UST-2013-0679; FRL-9909-12-Region 4]

Underground Storage Tank Program: Codification of Approved State Program for South Carolina

AGENCY: Environmental Protection Agency (EPA).

ACTION: Direct final rule.

SUMMARY: The Resource Conservation and Recovery Act of 1976, as amended (RCRA), authorizes the United States Environmental Protection Agency (EPA) to grant approval to states to operate their underground storage tank programs in lieu of the federal program. The EPA codifies its decision to approve state underground storage tank programs and incorporate by reference those provisions of the state statutes and regulations that EPA has approved. This action codifies the prior approval of South Carolina's underground storage tank program, which EPA approved on August 28, 2002, and incorporates by reference approved provisions of South Carolina's statutes and regulations.

DATES: This direct final rule is effective June 9, 2014, unless EPA publishes a prior Federal Register notice withdrawing this direct final rule. All comments on the codification of South Carolina's underground storage tank program must be received by the close of business May 12, 2014. The incorporation by reference of certain publications listed in the regulations is approved by the Director of the Federal Register, as of June 9, 2014, in accordance with 5 U.S.C. 552(a) and 1 CFR part 51.

ADDRESSES: Comments may be submitted, identified by Docket ID No. EPA-R04-UST-2013-0679, by one of the following methods:

• Federal eRulemaking Portal: http://www.regulations.gov. Follow the on-line instructions for submitting comments.

• Email: Truman.bill@epa.gov. Include Docket ID No. EPA-R04-UST-2013-0679 in the subject line of the message.

• Fax: (404) 562-8689/8439 (prior to faxing, please notify EPA contact listed below).

• Mail: Send written comments to Mr. Bill Truman, Chief, Underground Storage Tank Section, Restoration and Underground Storage Tank Branch, RCRA Division, U.S. Environmental Protection Agency, Region 4, Atlanta Federal Center, 61 Forsyth Street SW., Atlanta, GA 30303-8960.

• Hand Delivery or Courier: Deliver your comments to Mr. Bill Truman, Chief, Underground Storage Tank Section, Restoration and Underground Storage Tank Branch, RCRA Division, U.S. Environmental Protection Agency, Region 4, Atlanta Federal Center, 61 Forsyth Street SW., Atlanta, GA 30303-8960.

Instructions: Comments should reference Docket ID No. EPA-R04-UST-2013-0679. EPA's policy is that all comments received will be included in the public docket without change and may be made available online at www.regulations.gov, including any personal information provided, unless the comment includes information claimed to be Confidential Business Information (CBI) or other information whose disclosure is restricted by statue. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any materials you submit. If EPA cannot read your comment due to technical difficulties and cannot contact you for clarification, EPA may not be able to consider your comment. Electronic files should avoid the use of special characters, any form of encryption, and be free of any defects or viruses. For additional information about EPA's public docket, visit the EPA Docket Center homepage at www.epa.gov/epahome/dockets.htm.

Docket: All documents in the docket are listed in the www.regulations.gov index. Although listed in the index, some information is not publicly available (e.g., CBI or other information whose disclosure is restricted by statute). Certain other materials, such as copyrighted material, will be publicly available only in hard copy. Publicly available docket materials are available either electronically through www.regulations.gov or in hard copy at the following locations: EPA, Region 4, RCRA Division, Atlanta Federal Center, 61 Forsyth Street SW., Atlanta, Georgia 30303-8960; telephone number: (404) 562-9457; the South Carolina Department of Health and Environmental Control (SCDHEC), 2600 Bull Street, Columbia SC 29201, by email at foi@dhec.sc.gov or call (803) 898-3882; and the National Archives and Records Administration (NARA). For the availability of this material at NARA, call 202-741-6030, or go http://archives.gov/federal-register/cfr/ibr-locations.html. Interested persons wanting to examine these documents should make an appointment with the office in advance.

FOR FURTHER INFORMATION CONTACT: Mr. Bill Truman, Chief, Underground Storage Tank Section, Restoration and Underground Storage Tank Branch, RCRA Division, U.S. Environmental Protection Agency, Region 4, Atlanta Federal Center, 61 Forsyth Street SW., Atlanta, GA 30303-8960; telephone number: (404) 562-9457; fax number: (404) 562-8689/8439; email address: Truman.bill@epa.gov.

SUPPLEMENTARY INFORMATION:

A. Background

Section 9004 of RCRA, 42 U.S.C. 6991c, authorizes EPA to approve a state underground storage tank program to operate in the state in lieu of the federal underground storage tank program. EPA published a notice of final determination in the Federal Register announcing its decision to grant approval to South Carolina on August 28, 2002, and approval was effective on September 27, 2002 (67 FR 55160-55162).

EPA codifies its approval of state programs in 40 CFR Part 282, and incorporates by reference therein the state's statutes and regulations. Today's action codifies EPA's prior approval of South Carolina's underground storage tank program. This codification reflects the state program in effect at the time EPA granted South Carolina approval under Section 9004(a), 42 U.S.C. 6991c, for its underground storage tank program. Notice and opportunity for comment were provided earlier on EPA's decision to approve the South Carolina program, and EPA is not now reopening that decision nor requesting comment on it.

This effort provides clear notice to the public of the scope of the approved program in South Carolina. By codifying the approved South Carolina program and by amending the Code of Federal Regulations (CFR) whenever a new or different set of requirements is approved in South Carolina, the status of federally-approved requirements of the South Carolina program will be readily discernible. Only those provisions of the South Carolina underground storage tank program EPA has approved will be incorporated by reference.

To codify EPA's approval of South Carolina's underground storage tank program, EPA has added Section 282.90 to Title 40 of the CFR. Section 282.90(d)(1)(i) incorporates by reference the State's statutes and regulations that make up the approved program. Section 282.90(d) also references the Attorney General's Statement, the Demonstration of Adequate Enforcement Procedures, the Program Description, and the Memorandum of Agreement, which were evaluated as part of the approval process of the underground storage tank program, in accordance with Subtitle I of RCRA.

EPA retains the authority, in accordance with Sections 9003(h), 9005 and 9006 of Subtitle I of RCRA, 42 U.S.C. 6991b(h), 6991d and 6991e, and other applicable statutory and regulatory provisions, to undertake corrective actions, inspections and enforcement actions in approved States. With respect to such an enforcement action, EPA will rely on federal sanctions, federal inspection authorities, and federal procedures rather than the state authorized analogues to these provisions. Therefore, the South Carolina inspection and enforcement authorities are not incorporated by reference, nor are they part of South Carolinas's approved state program which operates in lieu of the federal program. These authorities, however, are listed in Section 282.90(d)(1)(ii) for informational purposes, and also because EPA considered them in determining the adequacy of South Carolina's enforcement authority. South Carolina's authority to inspect and enforce the State's underground storage tank requirements continues to operate independently under State law.

Some provisions of South Carolina's underground storage tank program are not part of the federally approved State program. These non-approved provisions are not part of the RCRA Subtitle I program because they are “broader in scope” than Subtitle I of RCRA. See 40 CFR 281.12(a)(3)(ii). As a result, State provisions which are “broader in scope” than the federal program are not incorporated by reference in 40 CFR Part 282. Section 282.90(d)(1)(iii) of the codification simply lists for reference and clarity the South Carolina statutory and regulatory provisions which are “broader in scope” than the federal program and which are not, therefore, part of the approved State program being codified today. “Broader in scope” provisions cannot be enforced by EPA; the State, however, will continue to enforce such provisions.

When the phrases, “insofar” and “except insofar,” are used in Appendix A (which provides an informational listing of the state requirements incorporated by reference in CFR Part 282), refer to the binders in the codification materials for specifics as to any words, phrases, sentences, paragraphs, or subsections that are “crossed-out” in the binders. These crossed-out materials are not incorporated by reference in Part 282 of the Code of Federal Regulations.

B. Statutory and Executive Order Review

This action codifies South Carolina's underground storage tank program that EPA has previously approved pursuant to RCRA Section 9004, and imposes no requirements other than those imposed by State law. This action complies with applicable executive orders and statutory provisions as follows: 1. Executive Order 12866: Regulatory Planning Review—The Office of Management and Budget has exempted this action from its review under Executive Order (E.O.) 12866. 2. Paperwork Reduction Act—This action does not impose an information collection burden under the Paperwork Reduction Act, 44 U.S.C. 3501 et seq., because this action does not establish or modify any information or recordkeeping requirements for the regulated community, and only seeks to codify the pre-existing and previously approved requirements under State law and imposes no additional requirements beyond those imposed by State law. 3. Regulatory Flexibility Act and Unfunded Mandates Reform Act—After considering the economic impacts of today's action on small entities under the Regulatory Flexibility Act, I certify that this action will not have a significant economic impact on a substantial number of small entities because the action will only have the effect of authorizing pre-existing requirements under State law and imposes no additional requirements beyond those imposed by State law. 4. Unfunded Mandates Reform Act—Because this action codifies pre-existing requirements under South Carolina state law and does not impose any additional enforceable duty beyond that required by state law, it does not contain any unfunded mandate or significantly or uniquely affect small governments, as described in the Unfunded Mandates Reform Act. 5. Executive Order 13132: Federalism—E.O. 13132 does not apply to this action because it will not have Federalism implications. It will not have substantial direct effects on the States, on the relationship between the national government and the States, or on the distribution of power and responsibilities among various levels of government. 6. Executive Order 13175: Consultation and Coordination with Indian Tribal Governments—This action will not have substantial direct effects on tribal governments, on the relationship between the Federal Government and Indian tribes, or on the distribution of power and responsibilities between the Federal Government and Indian tribes, as specified in Executive Order 13175. This action merely incorporates by reference the South Carolina underground storage tank program requirements that EPA has already approved. South Carolina is not approved to implement RCRA underground storage tank program in Indian Country. This action has no effect on the underground storage tank program that EPA implements in Indian Country. Thus, Executive Order 13175 does not apply to this action. 7. Executive Order 13045: Protection of Children from Environmental Health & Safety Risks—EPA interprets Executive Order 13045 (62 FR 19885, April 23, 1997) as applying only to those regulatory actions that concern health or safety risks, such that the analysis required under Section 5-501 of the Executive Order has the potential to influence the regulation. This action is not subject to Executive Order 13045 because it will codify a previously approved state program. 8. Executive Order 13211: Actions that Significantly Affect Energy Supply, Distribution, or Use—This action is not subject to E.O. 13211 because it is not a “significant regulatory action” as defined in E.O. 12866. 9. National Technology Transfer And Advancement Act—EPA has previously addressed the non-applicability of the National Technology Transfer and Advancement Act in its final approval of this state program. See 67 FR 55160. Section 12(d) of the National Technology Transfer and Advancement Act of 1995 (“NTTAA”), (15 U.S.C. 272 note), directs EPA to provide Congress, through OMB, explanations when the Agency decides not to use available and applicable voluntary consensus standards. This action does not involve technical standards. Therefore, Section 12(d) of the National Technology Transfer and Advancement Act does not apply to this action. 10. Executive Order 12898: Federal Actions To Address Environmental Justice in Minority Populations and Low Income Populations—Executive Order 12898 (59 FR 7629, February 16, 1994) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States. EPA has determined that this action will not have disproportionately high and adverse human health or environmental effects on minority or low-income populations. This action does not affect the level of protection provided to human health or the environment because this action simply codifies pre-existing and previously approved State rules which are no less stringent than existing Federal requirements. 11. Congressional Review Act—EPA will submit a report containing this action and other information required by the Congressional Review Act (5 U.S.C. 801 et seq.) to the U.S. Senate, the U.S. House of Representatives, and the Comptroller General of the United States prior to publication in the Federal Register. A major rule cannot take effect until 60 days after it is published in the Federal Register. This action is not a “major rule” as defined by 5 U.S.C. 804(2).

List of Subjects in 40 CFR Part 282

Environmental protection, Hazardous substances, Incorporation by reference, Intergovernmental relations, State program approval, Underground storage tanks, Water pollution control.

Authority: This document is issued under the authority of Section 9004 of the Resource Conservation and Recovery Act of 1976 (RCRA), as amended, 42 U.S.C. 6991c.

Dated: March 10, 2014.
A. Stanley Meiburg,
Deputy Regional Administrator, U.S. EPA Region 4.

For the reasons set forth in the preamble, 40 CFR Part 282 is amended as follows:

PART 282—APPROVED UNDERGROUND STORAGE TANK PROGRAMS

1. The authority citation for part 282 continues to read as follows:

Authority: 42 U.S.C. 6912, 6991c, 6991d, and 6991e.

Subpart B—Approved State Programs

2. Subpart B is amended by adding § 282.90 to read as follows:

§ 282.90 South Carolina State-Administered Program.

(a) The State of South Carolina is approved to administer and enforce an underground storage tank program in lieu of the federal program under Subtitle I of the Resource Conservation and Recovery Act of 1976 (RCRA), as amended, 42 U.S.C. 6991 et seq. The State's program, as administered by the South Carolina Department of Health and Environmental Control, was approved by EPA pursuant to 42 U.S.C. 6991c and part 281 of this chapter. EPA published the notice of final determination approving the South Carolina underground storage tank program on August 28, 2002, and that approval became effective on September 27, 2002.

(b) South Carolina has primary responsibility for enforcing its underground storage tank program. However, EPA retains the authority to exercise its corrective action, inspection and enforcement authorities under sections 9003(h), 9005 and 9006 of Subtitle I of RCRA, 42 U.S.C. 6991b(h), 6991d and 6991e, as well as under other statutory and regulatory provisions.

(c) To retain program approval, South Carolina must revise its approved program to adopt new changes to the federal Subtitle I program which make it more stringent, in accordance with section 9004 of RCRA, 42 U.S.C. 6991c, and 40 CFR part 281, subpart E. If South Carolina obtains approval for the revised requirements pursuant to section 9004 of RCRA, 42 U.S.C. 6991c, the newly approved statutory and regulatory provisions will be added to this subpart and notice of any change will be published in the Federal Register.

(d) South Carolina has final approval for the following elements submitted to EPA in the State's program application for final approval as of August 28, 2002. Copies of South Carolina's program application may be obtained from the South Carolina Department of Health and Environmental Control, Underground Storage Tank Program, 2600 Bull Street, Columbia, SC 29201; or the Underground Storage Tank Section, U.S. Environmental Protection Agency, Region 4, Atlanta Federal Center, 61 Forsyth Street SW., Atlanta, GA 30303-8960.

(1) State statutes and regulations. (i) The provisions cited in paragraph (d)(1)(i) of this section are incorporated by reference as part of the underground storage tank program under Subtitle I of RCRA, 42 U.S.C. 6991 et seq., with the approval of the Director of the Federal Register under 5 U.S.C. 552(a) and 1 CFR part 51. Material is incorporated as it exists on the date of the approval, and notice of any change in the material will be published in the Federal Register. All approved material is available for inspection at the National Archives and Records Administration (NARA). For information on the availability of the material at NARA, call 202-741-6030 or go to http://www.archives.gov/federal register/code of federal regulations/ibr locations.html. Copies of South Carolina's program application may be obtained from the Underground Storage Tank Program, South Carolina Department of Health and Environmental Control, 2600 Bull Street, Columbia, SC 29201.

(A) South Carolina Statutory Requirements Applicable to the Underground Storage Tank Program, 2000.

(B) South Carolina Regulatory Requirements Applicable to the Underground Storage Tank Program, 2000.

(ii) EPA considered the following statutes and regulations in evaluating the State program, but is not incorporating them by reference.

(A) The statutory provisions include:

(1) Code of Laws of South Carolina, Title 44. Health, Chapter 2. State Underground Petroleum Environmental Response Bank Act (SUPERB Act):

(i) Sec. 44-2-40 SUPERB Account and SUPERB Financial Responsibility Fund created; purposes and uses. Insofar as it provides for the creation of a SUPERB Account and SUPERB Financial Responsibility Fund, and insofar as it establishes criteria for accessing the funds.

(ii) Sec. 44-2-50 Regulations to be promulgated; cost of rehabilitation. Insofar as it provides for compliance monitoring and enforcement of the chapter and regulations promulgated thereunder.

(iii) Sec. 44-2-60 Registration of underground storage tanks; environmental impact fee. Insofar as this statute places requirements on petroleum distributors, prohibiting them from placing petroleum and petroleum products into an underground storage tank for which the owner or operator does not hold a currently valid registration, and insofar as it requires registration and the payment for registration fees and environmental impact fees for underground storage tanks.

(iv) Sec. 44-2-75 Insurance pools. Insofar as its provides for a means of establishing insurance pools to demonstrate financial responsibility.

(v) Sec. 44-2-90 Accrued interest; prospective abolition of environmental interest fee; use of residual funds for site rehabilitation. Insofar as it refers to interest collected on state fund accounts and the sunset date of the state funds.

(vi) Sec. 44-2-110 Early detection incentive program. Insofar as it establishes criteria for qualified expenditure of funds from the SUPERB Account.

(vii) Sec. 44-2-115 Eligibility requirements to be applied to favor eligibility; qualified site remains qualified until correction and compensation; petition for matter to be heard as contested case; reconsideration by mediation panel. Insofar as is regulates eligibility for state funds.

(viii) Sec. 44-2-120 Use of contractors, subcontractors, and employees for rehabilitation or cleanup. Insofar as this statute establishes requirements for site rehabilitation contractors.

(ix) Sec. 44-2-130 Compensation from SUPERB Account; other insurance or financial responsibility mechanism; deadline for submission; site rehabilitation not a state contract; criteria and restrictions; application, certification, approval, denial, appeal; records; rehabilitation plan; payments; federal government sites exempt. Insofar as it establishes criteria for access to state funds.

(x) Sec. 44-2-140 Enforcement of chapter or department order, penalties for violations. Insofar as it provides for compliance monitoring and enforcement of the underground storage tank requirements.

(xi) Sec. 44-2-150 SUPERB Advisory Committee; establishment; purposes; composition; terms; officers; quorum; operating procedures; facilities; duties and responsibilities; reports. Insofar as it establishes provisions for an advisory committee to study the implementation and administration of the SUPERB program.

(2) Code of Laws of South Carolina, Title 15, Civil Remedies and Procedures.

(i) Rule 24(a)(2) Appeals from department decisions giving rise to contested case; procedures. Insofar as it provides for compliance monitoring and enforcement of the underground storage tank requirements.

(B) The regulatory provisions include:

(1) South Carolina Underground Storage Tank Control Regulations, R. 61-92, Part 280.

(i) Sec. 280.301 Violations and Penalties. Insofar as it provides for notice to violators, assessment of penalties, criminal prosecution, and appeals under the SUPERB Act.

(ii) Sec. 280.302 Appeals. Insofar as it provides for appeal of any determination by the Department pursuant to R. 61-92 under the provisions of R. 61-72, Procedures for Contested Cases, and the Administrative Procedures Act.

(2) SUPERB Site Rehabilitation and Fund Access Regulations, R.61-98.

(iii) The following statutory and regulatory provisions are broader in scope than the federal program, are not part of the approved program, and are not incorporated by reference herein for enforcement purposes.

(A) Code of Laws of South Carolina, Title 44. Health, Chapter 2. State Underground Petroleum Environmental Response Bank Act (SUPERB Act):

(1) Sec. 44-2-60 Registration of underground storage tanks; environmental impact fee. Insofar as it places requirements on petroleum distributors, prohibiting them from placing petroleum and petroleum products into an underground storage tank for which the owner or operator does not hold a currently valid registration, and insofar as it requires registration and the payment of registration fees for underground storage tanks.

(2) Sec. 44-2-80 (B) and (C) Release of regulated substance; containment, removal, and abatement. Insofar as it places requirements that exceed the scope of the federal requirements applicable to a person who holds indicia of ownership to protect their security interests in an underground storage tank.

(3) Sec. 44-2-120 Use of contractors, subcontractors, and employees for rehabilitation or cleanup. Insofar as it establishes requirements for site rehabilitation contractors.

(B) South Carolina Underground Storage Tank Control Regulations, R.61-92, Part 280:

(1) Sec. 280.10(e) Applicability. Insofar as it places requirements on persons other than owners and operators.

(2) Sec. 280.23 New Tanks—permits required. Insofar as it requires issuance of permits to install and operate for all new tanks.

(3) Sec. 280.300 Variances. Insofar as it exceeds the scope of the federal program.

(2) Statement of legal authority. (i) “General Counsel's Statement,” signed by the State General Counsel on September 5, 2000, though not incorporated by reference, is referenced as part of the approved underground storage tank program under Subtitle I of RCRA, 42 U.S.C. 6991 et seq.

(3) Demonstration of procedures for adequate enforcement. The “Demonstration of Adequate Enforcement Procedures” submitted as part of the original application on September 5, 2000, though not incorporated by reference, is referenced as part of the approved underground storage tank program under Subtitle I of RCRA, 42 U.S.C. 6991 et seq.

(4) Program Description. The program description and any other material submitted as part of the original application on September 5, 2000, though not incorporated by reference, are referenced as part of the approved underground storage tank program under Subtitle I of RCRA, 42 U.S.C. 6991 et seq.

(5) Memorandum of Agreement. The Memorandum of Agreement between EPA Region 4 and the South Carolina Department of Health and Environmental Control, Underground Storage Tank Program, signed by EPA Regional Administrator on December 20, 2001, though not incorporated by reference, is referenced as part of the approved underground storage tank program under Subtitle I of RCRA, 42 U.S.C. 6991 et seq.

3. Appendix A to Part 282 is amended by adding in alphabetical order “South Carolina” and its listing to read as follows:

Appendix A to Part 282—State Requirements Incorporated by Reference in Part 282 of the Code of Federal Regulations

* * * * *

South Carolina

(a) The statutory provisions include:

(1) Code of Laws of South Carolina, Title 44. Health, Chapter 2. State Underground Petroleum Environmental Response Bank Act (SUPERB Act)

44-2-10 Short Title

44-2-20 Definitions

44-2-70 Financial responsibility of underground storage tank owners and operators

44-2-80 Release of regulated substance; containment, removal, and abatement

(b) The regulatory provisions include:

(1) South Carolina Underground Storage Tank Control Regulations, R.61-92, Part 280

280.10 Applicability

280.11 Interim prohibition for deferred UST systems

280.12 Definitions

280.20 Performance standards for new UST systems

280.21 Upgrading of Existing UST systems

280.22 Notification requirements

280.23 New tanks—B permits required

280.24 Testing

280.25 Secondary containment required

280.30 Spill and overfill control

280.31 Operation and maintenance of corrosion protection

280.32 Compatibility

280.33 Repairs allowed

280.34 Reporting and recordkeeping

280.40 General requirements for all UST systems

280.41 Requirements for petroleum UST systems

280.42 Requirements for hazardous substance UST systems

280.43 Methods of release detection for tanks

280.44 Methods of release detection for piping

280.45 Release detection recordkeeping

280.50 Reporting of suspected releases

280.51 Investigation due to off-site impacts

280.52 Release investigation and confirmation steps

280.53 Reporting and cleanup of spills and overfills

280.60 General

280.61 Initial response

280.62 Initial abatement measures and site check

280.63 Initial site characterization

280.64 Free product removal

280.65 Investigations for soil and ground-water cleanup

280.66 Corrective action plan

280.67 Public participation

280.70 Temporary closure

280.71 Permanent closure and changes-in-service

280.72 Assessing the site at closure or change-in-service and reporting requirements

280.73 Applicability to previously closed UST systems

280.74 Closure records

280.90 Applicability

280.91 Compliance dates

280.92 Definition of terms

280.93 Amount and scope of required financial responsibility

280.94 Allowable mechanisms and combinations of mechanisms

280.95 Financial test of self-assurance

280.96 Guarantee

280.97 Insurance and risk retention group coverage

280.98 Surety Bond

280.99 Letter of credit

280.101 State Underground Petroleum Environmental Response Bank (SUPERB) or other state assurance

280.102 Trust Fund

280.103 Standby trust fund

280.104 Local government bond rating test

280.105 Local government financial test

280.106 Local government guarantee

280.107 Local government fund

280.108 Substitution of financial assurance mechanism by owner or operator

280.109 Cancellation or non-renewal by a provider of financial assurance

280.110 Reporting by owner or operator

280.111 Recordkeeping

280.112 Drawing on financial assurance mechanisms

280.113 Release from requirements

280.114 Bankruptcy or other incapacity of owner or operator or provider of financial assurance

280.115 Replenishment of guarantees, letters of credit, or surety bonds

280.116 Suspension of enforcement (reserved)

280.200 Definitions

280.210 Participation in management

280.220 Ownership of an underground storage tank or underground storage tank system or facility or property on which an underground storage tank or underground storage tank system is located

280.230 Operating an underground storage tank or underground storage tank system

* * * * *

[FR Doc. 2014-08049 Filed 4-9-14; 8:45 am]

BILLING CODE 6560-50-P